FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than December 24, 2012.

A. Federal Reserve Bank of Chicago (Colette A. Fried, Assistant Vice President) 230 South LaSalle Street, Chicago, Illinois 60690-1414:

1. The Guttau Family consisting of Michael K. Guttau, Judith Ann Guttau, and the Heidi Guttau-Fox and Joshua Guttau Irrevocable Living Trust, Treynor, Iowa, Heidi Ann Guttau-Fox, Minden, Iowa, and Joshua Michael Guttau, Treynor, Iowa, as Trustees, as group acting in concert, to retain voting shares of Treynor Bancshares, Inc., and thereby indirectly retain voting shares of Treynor State Bank, both in Treynor, Iowa.

Board of Governors of the Federal Reserve System, December 4, 2012.
Margaret McCloskey Shanks,
Deputy Secretary of the Board.

[FR Doc. 2012-29606 Filed 12-6-12; 8:45 am]

BILLING CODE 6210-01-P